DEPARTMENT OF HOUSING AND URBAN DEVELOPMENT

[Docket No. FR-5281-N-99]

“HUD NEPA ARRA Section 1609(c) Reporting” Is the Name of the Attached Copy for This Collection

AGENCY: Office of the Chief Information Officer, HUD.

ACTION: Notice.

SUMMARY: The proposed information collection requirement described below has been submitted to the Office of Management and Budget (OMB) for review, as required by the Paperwork Reduction Act. The Department is soliciting public comments on the subject proposal.

Grantees who receive ARRA funding for projects must report on the status and progress of their projects and activities with respect to compliance with the National Environment Policy Act (NEPA) requirements and documentation. HUD consolidates and transmits the information received from grantees to the Council on Environmental Quality and OMB for the Administration's reports to the House and Senate committees designated in the legislation.

DATES: Comments Due Date: January 8, 2010.

ADDRESSES: Interested persons are invited to submit comments regarding this proposal. Comments should refer to the proposal by name and/or OMB approval Number (2506-0187) and should be sent to: HUD Desk Officer, Office of Management and Budget, New Executive Office Building, Washington, DC 20503; fax: 202-395-5806.

FOR FURTHER INFORMATION CONTACT: Lillian Deitzer, Reports Management Officer, QDAM, Department of Housing and Urban Development, 451 Seventh Street, SW., Washington, DC 20410; e-mail Lillian Deitzer at Lillian_L._Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: “HUD NEPA ARRA Section 1609(c) Reporting” is the name of the attached copy for this collection.

OMB Approval Number: 2506-0187.

Form Numbers: None.

Description of the Need for the Information and Its Proposed Use:Grantees who receive ARRA funding for projects must report on the status and progress of their projects and activities with respect to compliance with the National Environment Policy Act (NEPA) requirements and documentation. HUD consolidates and transmits the information received from grantees to the Council on Environmental Quality and OMB for the Administration's reports to the House and Senate committees designated in the legislation.

Frequency of Submission: Quarterly.

| Number of respondents | Annual responses | × | Hours per response | = | Burden hours
Reporting Burden | 6,000 | 4 |  | 2 |  | 12,000

Total Estimated Burden Hours: 12,000.

Status: Extension of a currently approved collection.

Authority: Section 3507 of the Paperwork Reduction Act of 1995, 44 U.S.C. 35, as amended.

Dated: December 3, 2009.
Lillian Deitzer,
Departmental Reports Management Officer, Office of the Chief Information Officer.

[FR Doc. E9-29364 Filed 12-8-09; 8:45 am]

BILLING CODE 4210-67-P